DEPARTMENT OF ENERGY

Federal Energy Regulatory Commission

[Docket Nos. EC03-120-000, et al.]

Virginia Electric and Power Company, et al.; Electric Rate and Corporate Filings

August 13, 2003.

1. Virginia Electric and Power Company

[Docket No. EC03-120-000]

Take notice that on August 8, 2003, Virginia Electric and Power Company (Dominion Virginia Power), tendered for filing with the Federal Energy Regulatory Commission (Commission), pursuant to Section 203 of the Federal Power Act and part 33 of the Commission's regulations, an application (Application) requesting Commission authorization for the Applicant's proposed purchase of an approximately 240 MW cogeneration facility and its appurtenant transmission facilities located in Gordonsville, Virginia.

Dominion Virginia Power states that copies of the filing were served upon Dominion Virginia Power's wholesale requirements customers, the Virginia State Corporation Commission and the North Carolina Utilities Commission.

Comment Date: August 29, 2003.

2. Hardee Power Partners, Limited Invenergy Investment Company LLC GTCR Fund VIII, L.P., GTCR Fund VIII/B, L.P., Hardee GP LLC, Hardee LP LLC

[Docket No. EC03-121-000]

Take notice that on August 8, 2003, Hardee Power Partners, Limited (Hardee Power), Invenergy Investment Company LLC, GTCR Fund VIII, L.P., GTCR Fund VIII/B, L.P., Hardee GP LLC and Hardee LP LLC (the Applicants) filed with the Federal Energy Regulatory Commission (Commission) an application pursuant to Section 203 of the Federal Power Act for authorization of the transfer of 100% of the partnership interests in Hardee Power to Hardee GP LLC and Hardee LP LLC (the “Acquirers”) so that upon consummation of the proposed transaction, the Acquirers will own 100% of Hardee Power. Applicants request confidential treatment for the documents contained in Exhibit I.

Comment Date: August 29, 2003.

3. Carolina Power & Light Company and Florida Power Company

[Docket Nos. ER01-1807-012 and ER01-2020-009]

Take notice that on August 8, 2003, Carolina Power & Light Company and Florida Power Corporation tendered for filing with the Federal Energy Regulatory Commission modifications to their Open Access Transmission Tariffs (OATT) that modify the compliance filing that they made on June 16, 2003 in Docket Nos. ER01-1807-011 and ER01-2020-008. Carolina Power & Light Company states that copies of the filing were served upon the public utility's jurisdictional customers, the North Carolina Utilities Commission and the Florida Public Service Commission.

Comment Date: August 29, 2003.

4. Ameren Services Company

[Docket No. ER02-2233-007]

Take notice that on August 7, 2003, the GridAmerica Participants and the Midwest Independent Transmission System Operator, Inc. (Midwest ISO) filed a compliance filing in accordance with the Commission's Orders issued on July 23, 2003 and July 31, 2003 in the Docket No. ER02-2233-002 et al. See Ameren Services Company, 104 FERC ¶ 61,097 (July 23 Order); Ameren Services Company, 104 FERC ¶ 61,178 (July 31 Order).

The Midwest ISO has requested waiver of the requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: August 28, 2003.

5. Ameren Services Company

[Docket Nos. ER02-2233-008]

Take notice that on August 8, 2003, the GridAmerica Participants and the Midwest Independent Transmission System Operator, Inc. (jointly, the Applicants) filed a compliance filing in accordance with the Commission's order issued on July 31, 2003 in Docket No. ER02-2233-002, et al. See Ameren Services Company, 104 FERC ¶ 61,178 (July 31 Order).

The Applicants have requested waiver of the requirements set forth in 18 CFR 385.2010. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: August 29, 2003.

6. Entergy Services, Inc.

[Docket No. ER03-1037-001]

Take notice that on August 8, 2003, Entergy Services, Inc., (Entergy Services) on behalf of Entergy Arkansas, Inc., Entergy Gulf States, Inc., Entergy Louisiana, Inc., Entergy Mississippi, Inc., and Entergy New Orleans, Inc., tendered for filing fully executed copies of an Amendment to the Service Agreement for Network Integration Transmission Service and Network Operating Agreement between Entergy Services and the City of North Little Rock, Arkansas, which had been previously submitted for filing in Docket No. ER03-1037-000 on July 3, 2003.

Comment Date: August 29, 2003.

7. PJM Interconnection, L.L.C.

[Docket No. ER03-1173-000]

Take notice that on August 7, 2003, PJM Interconnection, L.L.C. (PJM), submitted amendments to Schedule 2 of the PJM Open Access Transmission Tariff (PJM Tariff) to reflect revised WPS Westwood Generation, LLC (Westwood) revenue requirements for Reactive Supply and Voltage Control from Generation Sources Service as a result of a settlement agreement accepted by the Commission in Dockets No. ER02-2361-000 and ER02-2361-001, 103 FERC ¶ 61,298.

PJM states that copies of this filing have been served on all PJM members, Westwood, and each state electric utility regulatory commission in the PJM region.

Comment Date: August 28, 2003.

8. Pacific Gas and Electric Company

[Docket No. ER03-1175-000]

Take notice that on August 7, 2003, Pacific Gas and Electric Company (PG&E) tendered for filing revised Generator Special Facilities Agreements, Generator Interconnection Agreements, Supplemental Letter Agreements and Amendments between PG&E and the following Calpine-owned parties: Los Esteros Critical Energy Facility, LLC (Los Esteros); Yuba City Energy Center, LLC (Yuba City); Gilroy B Feather River Energy Center, LLC (Gilroy B Feather River); and Riverview Energy Center, LLC (Riverview).

PG&E has requested certain waivers. PG&E states that copies of this filing have been served upon Calpine, Los Esteros, Yuba City, Gilroy B Feather River, Riverview, the California Independent System Operator Corporation and the CPUC.

Comment Date: August 28, 2003.

9. PJM Interconnection, L.L.C.

[Docket No. ER03-1176-000]

Take notice that on August 7, 2003, PJM Interconnection, L.L.C. (PJM), submitted for filing an amended interconnection service agreement among PJM, Marina Energy, L.L.C., and Atlantic City Electric Company d/b/a Conectiv Power Delivery.

PJM requests a waiver of the Commission's 60-day notice requirement to permit a July 9, 2003 effective date for the agreement. PJM states that copies of this filing were served upon the parties to the agreement and the state regulatory commissions within the PJM region.

Comment Date: August 28, 2003.

10. PJM Interconnection, L.L.C.

[Docket No. ER03-1177-000]

Take notice that on August 7, 2003, PJM Interconnection, L.L.C. (PJM), submitted for filing an interim interconnection service agreement among PJM, Pleasants Energy, L.L.C., and Allegheny Power.

PJM requests a waiver of the Commission's 60-day notice requirement to permit a July 29, 2003 effective date for the agreement. PJM states that copies of this filing were served upon the parties to the agreement and the state regulatory commissions within the PJM region.

Comment Date: August 28, 2003.

11. PJM Interconnection, L.L.C.

[Docket No. ER03-1178-000]

Take notice that on August 7, 2003, PJM Interconnection, L.L.C. (PJM), submitted for filing an interconnection service agreement (ISA) among PJM, Conectiv Bethlehem, L.L.C., and PPL Electric Utilities Corporation and a notice of cancellation of an Interim ISA that has been superseded.

PJM requests a waiver of the Commission's 60-day notice requirement to permit a July 16, 2003 effective date for the ISA. PJM states that copies of this filing were served upon the parties to the agreement and the state regulatory commissions within the PJM region.

Comment Date: August 28, 2003.

Standard Paragraph

Any person desiring to intervene or to protest this filing should file with the Federal energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed.

Magalie R. Salas,
Secretary.

[FR Doc. 03-21565 Filed 8-21-03; 8:45 am]

BILLING CODE 6717-01-P